DEPARTMENT OF HOMELAND SECURITY

Coast Guard

33 CFR Part 165

[Docket No. USCG-2024-0455]

Safety Zones; Annual Events in the Captain of the Port San Diego Zone

AGENCY: Coast Guard, DHS.

ACTION: Notification of enforcement of regulation.

SUMMARY: The Coast Guard will enforce multiple safety zones for recurring marine events taking place in July 2024 in the Captain of the Port San Diego Zone. This action is necessary and intended for the safety of life and property on navigable waters during these events. During the enforcement periods, no person or vessel may enter the respective safety zone without the permission of the Captain of the Port San Diego or a designated representative.

DATES: The regulations in 33 CFR 165.1123 and 165.1124 will be enforced for four event locations in Table 1 to § 165.1123 and Table 1 to § 165.1124 during the dates and times indicated in the SUPPLEMENTARY INFORMATION section.

FOR FURTHER INFORMATION CONTACT: If you have questions about this notice of enforcement, call or email Sector San Diego's Waterways Management Division; telephone (619) 203-0754, email MarineEventsSD@USCG.mil.

SUPPLEMENTARY INFORMATION: The Coast Guard will enforce multiple safety zones for annual events in the Captain of the Port San Diego Zone listed in 33 CFR 165.1123, Table 1 to § 165.1123 and 33 CFR 165.1124, Table 1 to § 165.1124, for events occurring in the month of July as listed next.

The regulations listed in Table 1 to § 165.1123, will be enforced for the following events during the dates and times indicated below:

Table entry number 3: Coronado Glorietta Bay Fourth of July Fireworks (Coronado, CA)—from 8 p.m. through 10 p.m. on July 4, 2024

Table entry number 5: Big Bay Boom Fourth of July Fireworks (Port of San Diego)—from 8 p.m. through 10 p.m. on July 4, 2024

The regulations listed in Table 1 to § 165.1124, will be enforced for the following events during the dates and times indicated below:

Table entry number 2: Laughlin/Bullhead City Rockets Over the River Fireworks (Laughlin Tourism Committee)—from 8 p.m. through 10 p.m. on July 4, 2024

Table entry number 3: Avi Resort & Casino Independence Day Fireworks (Avi Resort & Casino)—from 8 p.m. through 10 p.m. on July 4, 2024

Pursuant to 33 CFR 165.23, entry into, transiting, or anchoring within these safety zones during an enforcement period is prohibited unless authorized by the Captain of the Port San Diego or his designated representative. Those seeking permission to enter the safety zone may request permission from the Captain of Port San Diego via channel 16, VHF-FM. Vessels and persons granted permission to enter the safety zone shall obey the directions of the Captain of the Port San Diego or his designated representative. While within a safety zone, all vessels shall operate at the minimum speed necessary to maintain a safe course.

This notice of enforcement is issued under authority of 33 CFR 165.1123, 33 CFR 165.1124, and 5 U.S.C. 552(a). In addition to this notice of enforcement in the Federal Register, the Coast Guard will provide the maritime community with advance notification of this enforcement period via Broadcast Notice to Mariners or Local Notice to Mariners. If the Captain of the Port San Diego determines that the safety zone need not be enforced for the full duration stated in this notice, he may use a Broadcast Notice to Mariners to grant general permission to enter the respective safety zone.

J.W. Spitler,
Captain, U.S. Coast Guard, Captain of the Port San Diego.

[FR Doc. 2024-12780 Filed 6-11-24; 8:45 am]

BILLING CODE 9110-04-P